DEPARTMENT OF HEALTH AND HUMAN SERVICES

National Institutes of Health

Prospective Grant of Exclusive License: Use of Thymosin β4 for Wound Healing Applications; Correction

The notice published in the February 28, 2000 Federal Register—announcing the prospective grant of an exclusive license for use of thymosin β4 for wound healing applications (65 FR 10505)—incorrectly listed one of the serial numbers for the subject invention as “60/094,960” under the SUMMARY section. NIH is publishing this notice to correct this serial number to read “60/094,690.” In view of this correction, to allow interested parties adequate time to respond, the DATES section is also amended to read “Only written comments and/or license applications which are received by the National Institutes of Health on or before June 8, 2000 will be considered.”

Dated: March 6, 2000.
Jack Spiegel,
Director, Division of Technology Development and Transfer, Office of Technology Transfer.

[FR Doc. 00-5785 Filed 3-9-00; 8:45 am]

BILLING CODE 4140-01-M